DEPARTMENT OF COMMERCE

International Trade Administration

United States-Mexico-Canada Agreement (USMCA), Article 10.12: Binational Panel Review: Notice of Panel Decision

AGENCY: United States Section, USMCA Secretariat, International Trade Administration, Department of Commerce.

ACTION: Notice of panel decision.

SUMMARY: On July 21, 2025 the Binational Panel issued its Decision in the matter of Certain Softwood Lumber Products from Canada: Final Results of Antidumping Duty Administrative Review, 2017-2018 (Secretariat File Number: USA-CDA-2020-10.12-02). The Binational Panel affirmed in part and remanded in part the Department of Commerce's Final Determination.

FOR FURTHER INFORMATION CONTACT: Vidya Desai, United States Secretary, NAFTA Secretariat, Room 2061, 1401 Constitution Avenue NW, Washington, DC 20230, (202) 482-2311.

SUPPLEMENTARY INFORMATION: Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision. There are established USMCA Rules of Procedure for Article 10.12 (Binational Panel Reviews), which were adopted by the three governments for panels requested pursuant to Article 10.12(2) of USMCA which requires Requests for Panel Review to be published in accordance with Rule 40. For the complete Rules, please see https://can-mex-usa-sec.org/secretariat/agreement-accord-acuerdo/usmca-aceum-tmec/rules-regles-reglas/article-article-articulo_10_12.aspx?lang=eng.

Authority: Pub. L. 116-113.

Dated: August 7, 2025.
Vidya Desai,
U.S. Secretary, USMCA Secretariat.

[FR Doc. 2025-15230 Filed 8-11-25; 8:45 am]

BILLING CODE 3510-GT-P